DEPARTMENT OF JUSTICE

Notice of Lodging of Proposed Consent Decree Under the Clean Water Act

On September 27, 2017, the Department of Justice lodged a proposed Consent Decree with the United States District Court for the District of Nevada in the lawsuit entitled United States and the State of Nevada v. The City of North Las Vegas, Civil Action No. 2:17-cv-02508.

In this action, the United States and the State of Nevada filed a complaint alleging claims against the City of North Las Vegas (City) for the City's violations of Sections 307 and 308 of the Clean Water Act (CWA), 33 U.S.C. 1317-1318, the terms of the City's National Pollutant Discharge Elimination System permit (NPDES permit), federal pretreatment regulations found at 40 CFR 403, and State laws NRS 445A.500-530.

The proposed settlement requires the City to comply with its NPDES permit issued under the CWA, the federal pretreatment regulations (40 CFR 403) and State laws NRS 445A.500-530. The proposed settlement also requires the City to submit its recently developed pretreatment program to the United States Environmental Protection Agency for final approval and to pay a civil penalty amount of $385,000 to be divided equally between the United States and the State.

The publication of this notice opens a period for public comment on the proposed Consent Decree. Comments should be addressed to the Assistant Attorney General, Environment and Natural Resources Division and should refer to United States and the State of Nevada v. The City of North Las Vegas, Civil Action No. 2:17-cv-02508, D.J. Ref. No. 90-5-1-1-11443. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $7.75 (25 cents per page reproduction cost) payable to the United States Treasury.

Henry Friedman,
Assistant Section Chief, Environmental Enforcement Section, Environment and Natural Resources Division.

[FR Doc. 2017-21293 Filed 10-3-17; 8:45 am]

BILLING CODE 4410-15-P